DEPARTMENT OF ENERGY

Federal Energy Regulatory Commission

[Docket Nos. PF24-2-000]

Transcontinental Gas Pipe Line Company, LLC; Notice of Scoping Meetings and Extension of Scoping Period for the Planned Southeast Supply Enhancement Project

On May 7, 2024, the staff of the Federal Energy Regulatory Commission (FERC or Commission) issued a Notice of Scoping Period Requesting Comments on Environmental Issues for the Planned Southeast Supply Enhancement Project, and Notice of Public Scoping Session. The notice announced the ongoing scoping period that ends on June 6, 2024. In the notice, staff indicated that a separate notice would be issued to indicate the dates, times, and locations for in-person public scoping sessions. With this notice FERC staff invites you to attend in-person public scoping sessions it will conduct in Davidson County, North Carolina and Pittsylvania County, Virginia for the planned Southeast Supply Enhancement Project. This notice also extends the scoping period for the project, which will now close on July 5, 2024.

Transcontinental Gas Pipe Line Company, LLC (Transco) plans to construct approximately 30.6 miles of 42-inch-diameter pipeline in Pittsylvania County, Virginia and Rockingham County, North Carolina (Eden Loop) as well as 24 miles of 42-inch-diameter pipeline in Guildford, Forsyth, and Davidson Counties, North Carolina (Salem Loop). Transco additionally plans to modify compression at existing compressor stations in Pittsylvania County, Virginia and Davidson, Iredell, and Cleveland County, North Carolina; and to modify other ancillary facilities in Anderson County, South Carolina; Walton and Henry County, Georgia; and Coosa County, Alabama. The project is planned to provide 1,586,900 Dekatherms per day of new firm transportation capacity from Transco's existing Station 165 Zone 5 Pooling Point and Cherrystone Interconnect, both in Pittsylvania County, Virginia. The public scoping sessions are scheduled as follows:

Date and time | Location
Monday, June 24, 2024, 5:00-7:00 p.m | Holiday Inn Express and Suites, 351 Vineyards Crossing, Lexington, NC 27295, (366) 224-6730.
Tuesday, June 25, 2024, 5:00-7:00 p.m | Olde Dominion Agricultural Complex, 19783 US-29, Chatham, VA 24531, (434) 432-8026.

The primary goal of these scoping sessions is to have you identify the specific environmental issues and concerns that should be considered in the environmental document. Individual oral comments will be taken on a one-on-one basis with a court reporter. This format is designed to receive the maximum amount of oral comments in a convenient way during the timeframe allotted.

Each scoping session is scheduled from 5:00 p.m. to 7:00 p.m. Eastern Daylight Time. You may arrive at any time after 5:00 p.m. There will not be a formal presentation by Commission staff when the session opens. If you wish to speak, the Commission staff will hand out numbers in the order of your arrival. Comments will be taken until 7:00 p.m. However, if no additional numbers have been handed out and all individuals who wish to provide comments have had an opportunity to do so, staff may conclude the session at 6:30 p.m. Please see appendix 1 for additional information on the session format and conduct.¹

¹ The appendices referenced in this notice will not appear in the Federal Register. Copies of the appendices were sent to all those receiving this notice in the mail and are available at www.ferc.gov using the link called “eLibrary.” For instructions on connecting to eLibrary, refer to the last page of this notice. For assistance, contact FERC at FERCOnlineSupport@ferc.gov or call toll free, (886) 208-3676 or TTY (202) 502-8659.

Your scoping comments will be recorded by a court reporter (with FERC staff or representative present) and become part of the public record for this proceeding. Transcripts will be publicly available on FERC's eLibrary system (see the last page of this notice for instructions on using eLibrary). If a significant number of people are interested in providing oral comments in the one-on-one settings, a time limit of 5 minutes may be implemented for each commentor.

It is important to note that the Commission provides equal consideration to all comments received, whether filed in written form or provided orally at a scoping session. Although there will not be a formal presentation, Commission staff will be available throughout the scoping session to answer your questions about the environmental review process. Representatives from Transco will also be present to answer project-specific questions.

As a reminder, in lieu of attending the public scoping sessions, the Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; and

(3) You can file a paper copy of your comments by mailing them to the Commission. Be sure to reference the project docket number (PF24-2-000) on your letter. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

This notice is being sent to the Commission's current environmental mailing list for the Project. Public sessions or site visits will be posted on the Commission's calendar located at https://www.ferc.gov/news-events/events along with other related information. Additional information about the project is available from the Commission's Office of External Affairs, at (866) 208-FERC, or on the FERC website (www.ferc.gov) using the eLibrary link. Click on the eLibrary link, click on “General Search” and enter the docket number in the “Docket Number” field (i.e., PF24-2-000). Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

Dated: June 6, 2024.
Debbie-Anne A. Reese,
Acting Secretary.

[FR Doc. 2024-12865 Filed 6-11-24; 8:45 am]

BILLING CODE 6717-01-P